U.S. DEPARTMENT OF LABOR

Employment and Training Administration

[TA-W-80,152]

CompONE Services, LTD, Ithaca, NY; Notice of Negative Determination Regarding Application for Reconsideration

By application received September 6, 2011, a worker requested administrative reconsideration of the negative determination regarding workers' eligibility to apply for Trade Adjustment Assistance (TAA) applicable to workers and former workers at CompONE Services, LTD, Ithaca, New York (CompONE Services). The negative determination was issued on August 3, 2011. The Department's Notice of Determination was published in the Federal Register on August 18, 2011 (76 FR 51435). The workers of CompONE Services are engaged in activities related to the supply of medical billing and coding services.

The petition was filed on behalf of “medical billers” workers at CompONE Services, LTD, Ithaca, New York. The petition states that the service supplied by CompONE Services is being shifted to an affiliated facility in Vietnam.

The negative determination was based on the Department's findings that CompONE Services does not produce an article within the meaning of Section 222(a) or Section 222(b) of the Act. In order to be considered eligible to apply for adjustment assistance under Section 223 of the Trade Act of 1974, the worker group seeking certification (or on whose behalf certification is being sought) must work for a “firm” or appropriate subdivision that produces an article.

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration asserts that “an error has been made interpreting whether the facts of our case fit the criteria required by the statute.”

After the Trade Act of 2009 expired in February 2011, petitions for TAA were instituted under the Trade Adjustment Assistance Reform Act of 2002 (Trade Act of 2002). The petition for CompOne Services was instituted on May 5, 2011. Therefore, the statute applicable to TA-W-80,152 is the Trade Act of 2002.

Section 222 of the Trade Act of 2002 establishes the worker group eligibility requirements. The requirements include either “imports of articles like or directly competitive with articles produced by such firm or subdivision have increased” or “a shift in production by such workers' firm or subdivision to a foreign country of articles like or directly competitive with articles which are produced by such firm or subdivision.” The statute does not provide as a basis for certification a shift in the supply of services to a foreign country.

After careful review of the request for reconsideration, previously submitted materials, the applicable statute, and relevant regulation, the Department determines that there is no new information, mistake in fact, or misinterpretation of the facts or of the law.

Conclusion

After review of the application and investigative findings, I conclude that there has been no error or misinterpretation of the law or of the facts which would justify reconsideration of the Department of Labor's prior decision. Accordingly, the application is denied.

Signed at Washington, DC, this 16th day of September 2011.
Del Min Amy Chen,
Certifying Officer, Office of Trade Adjustment Assistance.

[FR Doc. 2011-25721 Filed 10-4-11; 8:45 am]

BILLING CODE 4510-FN-P